SMALL BUSINESS ADMINISTRATION

[Disaster Declaration #17840 and #17841; ARKANSAS Disaster Number AR-00128]

Presidential Declaration Amendment of a Major Disaster for the State of Arkansas

AGENCY: Small Business Administration.

ACTION: Amendment 1.

SUMMARY: This is an amendment of the Presidential declaration of a major disaster for the State of Arkansas (FEMA-4698-DR), dated 04/02/2023.

Incident: Severe Storms and Tornadoes.

Incident Period: 03/31/2023.

DATES: Issued on 05/17/2023.

Physical Loan Application Deadline Date: 07/03/2023.

Economic Injury (EIDL) Loan Application Deadline Date: 01/02/2024.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: The notice of the President's major disaster declaration for the State of Arkansas, dated 04/02/2023, is hereby amended to extend the deadline for filing applications for physical damages as a result of this disaster to 07/03/2023.

All other information in the original declaration remains unchanged.

(Catalog of Federal Domestic Assistance Number 59008)

Francisco Sánchez, Jr.,
Associate Administrator, Office of Disaster Recovery & Resilience.

[FR Doc. 2023-11021 Filed 5-23-23; 8:45 am]

BILLING CODE 8026-09-P